DEPARTMENT OF COMMERCE

International Trade Administration

[C-201-854]

Standard Steel Welded Wire Mesh From Mexico: Countervailing Duty Order

AGENCY: Enforcement and Compliance, International Trade Administration, Department of Commerce.

SUMMARY: Based on affirmative final determinations by the Department of Commerce (Commerce) and the International Trade Commission (ITC), Commerce is issuing a countervailing duty order on standard steel welded wire mesh (wire mesh) from Mexico.

DATES: Applicable April 12, 2021.

FOR FURTHER INFORMATION CONTACT: Ian Hamilton, AD/CVD Operations, Office II, Enforcement and Compliance, U.S. Department of Commerce, 1401 Constitution Avenue NW, Washington, DC 20230; telephone: (202) 482-4798.

SUPPLEMENTARY INFORMATION:

Background

On February 18, 2021, Commerce published its affirmative final determination in the countervailing duty investigation of wire mesh from Mexico.¹ On April 5, 2021, the ITC notified Commerce of its final determination, pursuant to sections 705(b)(1)(A)(i) and 705(d) of the Tariff Act of 1930, as amended (the Act), that an industry in the United States is materially injured by reason of subsidized imports of wire mesh from Mexico.²

¹ See Standard Steel Welded Wire Mesh from Mexico: Final Affirmative Countervailing Duty Determination, 86 FR 10034 (February 18, 2021) (Final Determination).

² See ITC's Letter, “Notification of ITC Final Determinations,” dated April 5, 2021 (ITC Notification Letter).

Scope of the Order

The scope of the order is wire mesh from Mexico. For a complete description of the scope of this order, see the appendix to this notice.

Countervailing Duty Order

On April 5, 2021, in accordance with sections 705(b)(1)(A)(i) and 705(d) of the Act, the ITC notified Commerce of its final determination in this investigation, in which it found that an industry in the United States is materially injured by reason of imports of wire mesh from Mexico.³ As a result, and in accordance with sections 705(c)(2) and 706 of the Act, we are issuing this countervailing duty order. Because the ITC determined that imports of wire mesh from Mexico are materially injuring a U.S. industry, unliquidated entries of such merchandise from Mexico, entered or withdrawn from warehouse for consumption, are subject to the assessment of countervailing duties.

³ See ITC Notification Letter.

Countervailing duties will be assessed on unliquidated entries of wire mesh from Mexico entered, or withdrawn from warehouse, for consumption on or after December 3, 2020, the date of publication of the Preliminary Determination,⁴ but will not include entries occurring after the expiration of the provisional measures period and before the publication of the ITC's final injury determination under section 705(b) of the Act, as further described below.

⁴ See Standard Steel Welded Wire Mesh from Mexico: Preliminary Affirmative Countervailing Duty Determination, 85 FR 78124 (December 3, 2020) (Preliminary Determination).

Suspension of Liquidation and Cash Deposits

In accordance with section 706 of the Act, Commerce will direct CBP to suspend liquidation of entries of wire mesh from Mexico, as described in the appendix to this notice, effective on the date of publication of the ITC's notice of final determination in the Federal Register, and to assess, upon further instruction by Commerce, pursuant to section 706(a)(1) of the Act, countervailing duties for each entry of the subject merchandise in an amount based on the net countervailable subsidy rate for the subject merchandise. On or after the publication of the ITC's final injury determination in the Federal Register, CBP must require, at the same time as importers would normally deposit estimated import duties on this merchandise, cash deposits for each entry of subject merchandise equal to the rates noted below. These instructions suspending liquidation will remain in effect until further notice.

⁵ The all-others rate applies to all producers or exporters not specifically listed.

Company | Subsidy rate (percent)
Aceromex S.A. De C.V | 1.03
Deacero S.A.P.I. de C.V | 102.10
All Others ⁵ | 1.03

Provisional Measures

Section 703(d) of the Act states that instructions issued pursuant to an affirmative preliminary determination may not remain in effect for more than four months. In the underlying investigation, Commerce published the Preliminary Determination on December 3, 2020. As such, the four-month period beginning on the date of the publication of the Preliminary Determination ended on April 2, 2021. Furthermore, section 707(b) of the Act states that definitive duties are to begin on the date of publication of the ITC's final injury determination.

Therefore, in accordance with section 703(d) of the Act, we will instruct CBP to terminate the suspension of liquidation and to liquidate, without regard to countervailing duties, unliquidated entries of wire mesh from Mexico, entered, or withdrawn from warehouse, for consumption, on or after April 2, 2021, the date on which the provisional measures expired, until and through the day preceding the date of publication of the ITC's final injury determination in the Federal Register.⁶ Suspension of liquidation will resume on the date of publication of the ITC's final determination in the Federal Register.

⁶ See Prestressed Concrete Steel Wire Strand from Argentina, Colombia, Egypt, Netherlands, Saudi Arabia, Taiwan, Turkey, and the United Arab Emirates; Determinations, 86 FR 7564 (January 29, 2021).

Notifications to Interested Parties

This notice constitutes the countervailing duty order with respect to wire mesh from Mexico, pursuant to section 706(a) of the Act. Interested parties can find a list of countervailing duty orders currently in effect at http://enforcement.trade.gov/stats/iastats1.html. This order is published in accordance with section 706(a) of the Act and 19 CFR 351.211(b).

Dated: April 6, 2021.
Christian Marsh,
Acting Assistant Secretary for Enforcement and Compliance.

Appendix

Scope of the Order

The scope of this order covers uncoated standard welded steel reinforcement wire mesh (wire mesh) produced from smooth or deformed wire. Subject wire mesh is produced in square and rectangular grids of uniformly spaced steel wires that are welded at all intersections. Sizes are specified by combining the spacing of the wires in inches or millimeters and the wire cross-sectional area in hundredths of square inch or millimeters squared. Subject wire mesh may be packaged and sold in rolls or in sheets.

Subject wire mesh is currently produced to ASTM specification A1064/A1064M, which covers carbon-steel wire and welded wire reinforcement, smooth and deformed, for concrete in the following seven styles:

1. 6X6 W1.4/W1.4 or D1.4/D1.4

2. 6X6 W2.1/W2.1 or D2.1/D2.1

3. 6X6 W2.9/W2.9 or D2.9/D2.9

4. 6X6 W4/W4 or D4/D4

5. 6X12 W4/W4 or D4/D4

6. 4X4 W2.9/W2.9 or D2.9/D2.9

7. 4X4 W4/W4 or D4/D4

The first number in the style denotes the nominal spacing between the longitudinal wires and the second number denotes the nominal spacing between the transverse wires. In the first style listed above, for example, “6X6” denotes a grid size of six inches by six inches. “W” denotes the use of smooth wire, and “D” denotes the use of deformed wire in making the mesh. The number following the W or D denotes the nominal cross-sectional area of the transverse and longitudinal wires in hundredths of a square inch (i.e., W1.4 or D1.4 is .014 square inches).

Smooth wire is wire that has a uniform cross-sectional diameter throughout the length of the wire.

Deformed wire is wire with indentations or raised transverse ribs, which results in wire that does not have a uniform cross-sectional diameter throughout the length of the wire.

Rolls of subject wire mesh are produced in the following styles and nominal width and length combinations:

Style: 6X6 W1.4/W1.4 or D1.4/D1.4 (i.e., 10 gauge)

Roll Sizes: 5′ X 50′

5′ X 150′

6′ X 150′

5′ X 200′

7′ X 200′

7.5′ X 200′

Style: 6X6 W2.1/W2.1 or D2.1/D2.1 (i.e., 8 gauge)

Roll Sizes: 5′ X 150′

Style: 6X6 W2.9/W2.9 or D2.9/D2.9 (i.e., 6 gauge)

Roll Sizes: 5′ X 150′

7′ X 200′

All rolled wire mesh is included in scope regardless of length.

Sheets of subject wire mesh are produced in the following styles and nominal width and length combinations:

Style: 6X6 W1.4/W1.4 or D1.4/D1.4 (i.e., 10 gauge)

Sheet Size: 3′6″ X 7′

4′ X 7′

4′ X 7′6″

5′ X 10′

7′ X 20′

7′6″ X 20′

8′ X 12′6″

8′ X 15′

8′ X 20′

Style: 6X6 W2.1/W2.1 or D2.1/D2.1 (i.e., 8 gauge)

Sheet Size: 5′ X 10′

7′ X 20′

7′6″ X 20′

8′ X 12′6″

8′ X 15′

8′ X 20′

Style: 6X6 W2.9/W2.9 or D2.9/D2.9 (i.e., 6 gauge)

Sheet Size: 3′6″ X 20′

5′ X 10′

7′ X 20′

7′6″ X 20′

8′ X 12′6″

8′ X 15′

8′ X 20′

Style: 6X12 W4/W4 or D4/D4 (i.e., 4 gauge)

Sheet Size: 8′ X 20′

Style: 4X4 W2.9/W2.9 or D2.9/D2.9 (i.e., 6 gauge)

Sheet Size: 5′ X 10′

7′ X 20′

7′6″ X 20′

8′ X 12′6″

8′ X 12′8″

8′ X 15′

8′ X 20′

Style: 4X4 W4/W4 or D4/D4 (i.e., 4 gauge)

Sheet Size: 5′ X 10′

8′ X 12′6″

8′ X 12′8″

8′ X 15′

8′ X 20′

Any product imported, sold, or invoiced in one of these size combinations is within the scope.

ASTM specification A1064/A1064M provides for permissible variations in wire gauges, the spacing between transverse and longitudinal wires, and the length and width combinations. To the extent a roll or sheet of welded wire mesh falls within these permissible variations, it is within this scope.

ASTM specification A1064/A1064M also defines permissible oversteeling, which is the use of a heavier gauge wire with a larger cross-sectional area than nominally specified. It also permits a wire diameter tolerance of ± 0.003 inches for products up to W5/D5 and ± 0.004 for sizes over W5/D5. A producer may oversteel by increasing smooth or deformed wire diameter up to two whole number size increments on Table 1 of A1064. Subject wire mesh has the following actual wire diameter ranges, which account for both oversteeling and diameter tolerance:

W/D No. | Maximum oversteeling No. | Diameter range (inch)
1.4 (i.e., 10 gauge) | 3.4 | 0.093 to 0.211.
2.1 (i.e., 8 gauge) | 4.1 | 0.161 to 0.231.
2.9 (i.e., 6 gauge) | 4.9 | 0.189 to 0.253.
4.0 (i.e., 4 gauge) | 6.0 | 0.223 to 0.280.

To the extent a roll or sheet of welded wire mesh falls within the permissible variations provided above, it is within this scope.

In addition to the tolerances permitted in ASTM specification A1064/A1064M, wire mesh within this scope includes combinations where:

1. A width and/or length combination varies by ± one grid size in any direction, i.e., ± 6 inches in length or width where the wire mesh's grid size is “6X6”; and/or

2. The center-to-center spacing between individual wires may vary by up to one quarter of an inch from the nominal grid size specified.

Length is measured from the ends of any wire and width is measured between the center-line of end longitudinal wires.

Additionally, although the subject wire mesh typically meets ASTM A1064/A1064M, the failure to include certifications, test reports or other documentation establishing that the product meets this specification does not remove the product from the scope. Wire mesh made to comparable foreign specifications (e.g., DIN, JIS, etc.) or proprietary specifications is included in the scope.

Excluded from the scope is wire mesh that is galvanized (i.e., coated with zinc) or coated with an epoxy coating. In order to be excluded as galvanized, the excluded welded wire mesh must have a zinc coating thickness meeting the requirements of ASTM specification A641/A641M. Epoxy coating is a mix of epoxy resin and hardener that can be applied to the surface of steel wire.

Merchandise subject to this order are classified under Harmonized Tariff Schedule of the United States (HTSUS) categories 7314.20.0000 and 7314.39.0000. While HTSUS subheadings are provided for convenience and customs purposes, the written description of the scope of this order is dispositive.

[FR Doc. 2021-07448 Filed 4-9-21; 8:45 am]

BILLING CODE 3510-DS-P